ENVIRONMENTAL PROTECTION AGENCY

[EPA-HQ-OPP-2009-0883; FRL-9226-5]

Agency Information Collection Activities; Submission to OMB for Review and Approval; Comment Request; Experimental Use Permits (EUPs) for Pesticides; EPA ICR No. 0276.14, OMB Control No. 2070-0040

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 15, 2010.

ADDRESSES: Submit your comments, referencing Docket ID No. EPA-HQ-OPP-2009-0883, to (1) EPA online using http://www.regulations.gov (our preferred method), or by mail to: Environmental Protection Agency, Pesticide Public Regulatory Docket (7502P), 1200 Pennsylvania Ave., NW, Washington, DC 20460, and (2) OMB by mail to: Office of Information and Regulatory Affairs, Office of Management and Budget (OMB), Attention: Desk Officer for EPA, 725 17th Street, NW., Washington, DC 20503.

FOR FURTHER INFORMATION CONTACT: Lily Negash, Field and External Affairs Division, Office of Pesticide Programs (7506P), Environmental Protection Agency, 1200 Pennsylvania Ave., NW., Washington, DC 20460; telephone number: 703-347-8515; fax number: 703-305-5884; e-mail address: negash.lily@epa.gov.

SUPPLEMENTARY INFORMATION: EPA has submitted the following ICR to OMB for review and approval according to the Paperwork Reduction Act (PRA) (44 U.S.C. 3501 et seq.), and the procedures prescribed in 5 CFR 1320.12. On March 3, 2010, EPA sought comments on the renewal ICR (75 FR 9593), pursuant to 5 CFR 1320.8(d). EPA received no comments. Any additional comments on this ICR should be submitted to EPA and OMB no later than December 15, 2010 and in accordance with the instructions under ADDRESSES.

EPA has established a public docket for this ICR under Docket ID No. EPA-OPP-HQ-2009-0883, which is available for online viewing at http://www.regulations.gov, or in person viewing at the Pesticides Public Regulatory Docket, One Potomac Yard (South Building), 2777 S. Crystal Drive, Room S-4400, Arlington, VA 22202. This docket facility is open from 8:30 a.m. to 4 p.m., Monday through Friday, excluding legal holidays. The telephone number for this docket is 703-305-5805.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Experimental Use Permits (EUPs) for Pesticides.

ICR Numbers: EPA ICR No. 0276.14, OMB Control No. 2070-0040.

ICR Status: The current OMB approval for this ICR is scheduled to expire on November 30, 2010. Under OMB regulations, the Agency may continue to conduct or sponsor the collection of information while this submission is pending at OMB. This ICR renews an ongoing information collection activity. An Agency may not conduct or sponsor, and a person is not required to respond to, a collection of information, unless it displays a currently valid OMB control number. The OMB control numbers for EPA's regulations in title 40 of the CFR, after appearing in the Final Rule and in the Federal Register when approved, are listed in 40 CFR part 9 or by other appropriate means, such as on the related collection instrument or form, if applicable.

Abstract: The Federal Insecticide, Fungicide, and Rodenticide Act (FIFRA) requires that before a pesticide product may be distributed or sold in the U.S., it must be registered by EPA. Section 5 of FIFRA authorizes EPA to issue experimental use permits (EUPs) which allow companies to temporarily ship pesticide products for experimental use for the purpose of gathering data necessary to support the application for registration of a pesticide product. In general, EUP's are issued either for a pesticide not registered with the Agency or for a registered pesticide for a use not registered with the Agency. The EUP application must be submitted in order to obtain a permit. This information collection provides the EPA with the data necessary to determine whether to issue an EUP under section 5 of FIFRA.

Burden Statement: The annual public reporting and recordkeeping burden for this collection of information is estimated to average between 32.8 hours for chemical pesticides and 147 hours for plant-incorporated protectants (PIPs) per response. Burden is defined in 5 CFR 1320.3(b). The following is a summary of the burden and cost information for this ICR:

Respondents/Affected Entities: Pesticide Registrants.

Estimated Number of Respondents: 21.

Frequency of Response: On occasion.

Estimated Total Annual Responses: 10.3.

Estimated Total Annual Hour Burden: 1,907.

Estimated Total Annual Cost: $114,566.

Changes in the Estimates: There is an increase of 1150 hours from the total estimated burden currently identified in the OMB Inventory. This increase is an adjustment in the burden estimates resulting from consultations with EUP program participants, and an estimated number of EUP applications that are for PIPs compared to chemical pesticides.

Dated: November 8, 2010.
John Moses,
Director, Collection Strategies Division.

[FR Doc. 2010-28654 Filed 11-12-10; 8:45 am]

BILLING CODE 6560-50-P